DEPARTMENT OF STATE

[Delegation of Authority 313]

Delegation by the Deputy Secretary of State to the Assistant Secretary of State for International Organization Affairs, and the Deputy Assistant Secretary for Economic and Global Affairs, Bureau of International Organization Affairs, of Authorities Under 39 U.S.C. 407(c)(1) and (2)

By virtue of the authority vested in the Secretary of State, including the authority of section 1 of the State Department Basic Authorities Act, as amended (22 U.S.C. 2651a), and delegated to the Deputy Secretary by Delegation of Authority 245 dated April 23, 2001, I hereby delegate to the Assistant Secretary of State for International Organization Affairs and the Deputy Assistant Secretary for Economic and Global Affairs, Bureau of International Organization Affairs, to the extent authorized by law, the authority and functions of the Secretary under 39 U.S.C. 407(c)(1) and (2).

Notwithstanding this delegation of authority, the Secretary and the Deputy Secretary may exercise any function or authority covered by this delegation.

This delegation of authority shall be published in the Federal Register.

Dated: June 20, 2008.
John D. Negroponte,
Deputy Secretary of State, Department of State.

[FR Doc. E8-14778 Filed 6-27-08; 8:45 am]

BILLING CODE 4710-10-P